DEPARTMENT OF COMMERCE

International Trade Administration

[A-570-892]

Carbazole Violet Pigment 23 From the People's Republic of China: Final Rescission of Antidumping Duty Administrative Review

AGENCY: Import Administration, International Trade Administration, Department of Commerce.

SUMMARY: On September 6, 2011, the Department of Commerce (the Department) published the preliminary intent to rescind the administrative review of the antidumping duty order on carbazole violet pigment 23 (CVP-23) from the People's Republic of China (PRC).¹ This administrative review covers Toyo Ink Mfg. America, LLC and Toyo Ink Mfg. Co., Ltd. (collectively, Toyo) for the December 1, 2009, through November 30, 2010, period of review (POR). Toyo provided a certification of no sales. As the Department's review of U.S. Customs and Border Protection (CBP) import data confirmed that there were no reviewable entries of the subject merchandise during the POR, we preliminarily determined that Toyo did not have reviewable entries during the POR. Therefore, because there were no entries on which to assess duties, the Department preliminarily determined to rescind this review and gave interested parties an opportunity to comment. We did not receive comments on the Preliminary Results. We are therefore rescinding the administrative review of the antidumping duty order on CVP-23 from the PRC.

¹ See Carbazole Violet Pigment 23 From the People's Republic of China: Preliminary Intent To Rescind Antidumping Duty Administrative Review, 76 FR 55003 (September 6, 2011) (Preliminary Results).

DATES: Effective Date: January 10, 2012.

FOR FURTHER INFORMATION CONTACT: Mark Flessner or Robert James, AD/CVD Operations, Office 7, Import Administration, International Trade Administration, U.S. Department of Commerce, 14th Street and Constitution Avenue NW., Washington, DC 20230; telephone: (202) 482-6312 or (202) 482-0469, respectively.

SUPPLEMENTARY INFORMATION:

Background

As noted above, on September 6, 2011, the Department published in the Federal Register the Preliminary Results of the administrative review of the antidumping duty order on CVP-23 from the PRC. The Department did not receive comments from interested parties on our Preliminary Results.

Scope of the Order

The merchandise covered by this order is carbazole violet pigment 23 identified as Color Index No. 51319 and Chemical Abstract No. 6358-30-1, with the chemical name of diindolo [3,2-b:3',2'-m] triphenodioxazine, 8,18-dichloro-5, 15-diethy-5,15-dihydro-, and molecular formula of C 34 H 22 C l2 N 4 O 2.² The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of the order is dispositive.

² The brackets do not indicate “business proprietary information” but rather are part of the chemical formula.

Rescission of the Review

Based on its analysis of the record information, the Department preliminarily determined that the merchandise in the CBP data and the entry documentation on the record was not subject to the scope of the antidumping duty order on CVP-23 from the PRC. Accordingly, in the Preliminary Results, the Department indicated that it intended to rescind this administrative review because there was no information on the record which indicated that Toyo made sales, shipments, or entries to the United States of subject merchandise during the POR. We did not receive comments concerning the Preliminary Results. Therefore, the Department continues to find that the merchandise reflected in the CBP data and entry documentation on the record is not subject to the scope of the antidumping duty order on CVP-23 from the PRC. Furthermore, because Toyo is the only company subject to this administrative review, in accordance with 19 CFR 351.213(d)(3), and consistent with our practice,³ we are rescinding this review of the antidumping duty order on CVP-23 from the PRC for the December 1, 2009, through November 30, 2010 POR. The Department intends to instruct CBP fifteen days after the publication of this notice to liquidate such entries with respect to the PRC-wide entity.

³ See Pure Magnesium From the People's Republic of China: Rescission of Antidumping Duty Administrative Review, 76 FR 53408 (August 26, 2011).

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i) of the Tariff Act of 1930, as amended and 19 CFR 351.213(d)(4).

Dated: January 3, 2012.
Christian Marsh,
Acting Assistant Secretary for Import Administration.

[FR Doc. 2012-248 Filed 1-9-12; 8:45 am]

BILLING CODE 3510-DS-P